DEPARTMENT OF THE INTERIOR

Office of the Secretary

[256D0102DM; DS6CS00000; DLSN00000.000000; DX6CS25; OMB Control Number 1093-0008]

Agency Information Collection Activities; Application and Reports for Paleontological Permits

AGENCY: Office of the Secretary, Interior.

ACTION: Notice of information collection; request for comment.

SUMMARY: In accordance with the Paperwork Reduction Act of 1995, we, the U.S. Department of the Interior (Interior, we), are proposing to revise an information collection.

DATES: Interested persons are invited to submit comments. To be considered, your comments must be received on or before July 28, 2025.

ADDRESSES: Written comments and recommendations for the proposed information collection should be sent to the Departmental Information Collection Clearance Officer (ICCO), 1849 C Street NW, Washington, DC 20240; or by email to DOI-PRA@ios.doi.gov. Please reference Office of Management and Budget (OMB) Control Number 1093-0008 in the subject line of your comments.

FOR FURTHER INFORMATION CONTACT: Jeffrey Parrillo, Departmental ICCO, 1849 C Street NW, Washington, DC 20240; by telephone, (202)-208-7072; or by email to DOI-PRA@ios.doi.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA; 44 U.S.C. 3501 et seq.) and its implementing regulations at 5 CFR part 1320, all information collections require approval under the PRA. We may not conduct or sponsor, and you are not required to respond to, a collection of information unless it displays a currently valid Office of Management and Budget (OMB) control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this information collection request. Before including your address, phone number, email address, or other personal identifying information in your comment, you should be aware that your entire comment—including your personal identifying information—may be made publicly available at any time. While you can ask us in your comment to withhold your personal identifying information from public review, we cannot guarantee that we will be able to do so.

Abstract: In 1999, the Senate Interior Appropriations Subcommittee requested that the Department of the Interior (we, DOI), the U.S. Department of Agriculture—Forest Service (USDA-FS), and the Smithsonian Institution prepare a report on fossil resource management on Federal lands (Sen. Rep. 105-227, at 60 (1998)). The request directed these entities to analyze the:

• Need for a unified Federal policy for the collection, storage, and preservation of fossils.

• Need for standards that would maximize the availability of fossils for scientific study.

• Effectiveness of current methods for storing and preserving fossils collected from Federal lands.

During the course of preparing the report, the agencies held a public meeting to gather public input. The DOI report to Congress, “Assessment of Fossil Management of Federal and Indian Lands,” was published in May 2000. After the report was released, the Paleontological Resources Preservation Act (PRPA) was introduced in the 107th Congress. PRPA was modeled after the Archaeological Resources Protection Act (ARPA) and emphasized the recommendations and guiding principles in the May 2000 report.

The legislation was reintroduced in subsequent Congresses through the 111th Congress when it was included as a subtitle in the Omnibus Public Land Management Act, which became law on March 30, 2009. Legislative history demonstrates that PRPA (16 U.S.C. 470aaa-aaa-11) was enacted to preserve paleontological resources for current and future generations because these resources are nonrenewable and are an irreplaceable part of America's heritage. PRPA requires that implementation be coordinated between the Secretaries of the Interior and Agriculture and that DOI and USDA-FS issue regulations as appropriate to carry out the law.

Accordingly, DOI and USDA-FS formed an interagency coordination team in April 2009 to draft the proposed regulations. Members of the team included program leads for paleontology, archaeology, and regulatory specialists from the Bureau of Land Management (BLM), the National Park Service (NPS), the Bureau of Reclamation (BOR), the U.S. Fish and Wildlife Service (USFWS) (the bureaus), and the USDA-FS.

Information collected under this control number includes the following:

(1) DI Form 9002, “Paleontology Permit Application” (43 CFR 49.115)—Permit applicants proposing to work in areas administered by the BLM, BOR, or USFWS must provide the following information via DI form 9002:

a. Applicant's name, affiliation, and contact information.

b. Description of the applicant's qualifications, to include a current resume for the applicant and all other persons who will oversee fieldwork and other work, and information on the applicant's past performance on previous permits.

c. Maps and other location information, and estimated start and end dates of proposed work.

d. Description, purpose and methodology of proposed work, including a detailed scope of work or research plan for the proposed activity, logistical information, methods that will be employed to explore for or remove the paleontological resources, proposed content and nature of any collection to be made under the permit.

e. Information about the proposed repository.

f. Description of anticipated costs, including bonding information.

(2) DI Form 9003, “Paleontology Permit” (43 CFR 49.125(a)).

(3) DI Form 9004, “Paleontology Locality Record” (43 CFR 49.125(a)(1) & (6))—Permittee will record locality information on DI form 9004 or in another format approved by the bureau in the permit that captures the same information.

(4) DI Form 9006, Reports (43 CFR 49.125(a)(14))—Permittees conducting activities on lands administered by the BLM, BOR, or USFWS must submit reports to the bureaus using DI form 9006 as a cover sheet. Under some permits, one report may be required summarizing all activities; while other permits may require multiple reports for separate activities under the permit. We use the reports to track and manage the resources and contribute to scientific research.

(5) DI Form 9007, Repository Receipt (43 CFR 49.125(a)(10) & (11))—Permittee must deposit the collection in the approved repository named in the permit by the date specified in the permit and provide the bureau with DI form 9007, which includes a certification by the permittee that the collection and other associated records were transferred to the repository and a certification by the approved repository's authorized official that the collection was received.

(6) Resource damage or theft (43 CFR 49.75(a)(8))—Permittee must report suspected or apparent resource damage or theft of paleontological or other resources to the Federal land manager as soon as possible, but not to exceed 48 hours, after learning of the suspected or apparent damage or theft.

(7) List and description of paleontological resources (43 CFR 49.125(a)(12))—If the permittee has not transferred the collection to the approved repository named in the permit by the date specified in the permit, the permittee must provide the Federal land manager a complete list and description of all paleontological resources collected and the current location of the paleontological resources.

(8) Amendments to permits (43 CFR 49.130(a))—Permittees may request a modification to a permit. Modification requests will include permittee name, permit number, and the reason(s) for the modification request.

(9) Objecting to a notice of violation (43 CFR 49.515(a) & (b))—When a person receives a notice of violation, the person has 30 days from the date the notice was received to object by submitting to the Federal land manager documentation to support the position that the person did not commit a violation or that the proposed penalty should be reduced or eliminated.

(10) Responding to a civil penalty (43 CFR 49.535(a) & (b))—A person may request a hearing on the Federal land manager's final assessment of a civil penalty by filing a request for hearing via registered or certified mail (return receipt requested or other delivery method, delivery receipt requested) to the Departmental Cases Hearings Division, Office of Hearings and Appeals, Department of the Interior, at the address specified in the final assessment of civil penalty. A copy of the request must be served on the Solicitor of the Department of the Interior at the address specified in the final assessment of civil penalty. The request for hearing must include the following information:

a. The reasons for challenging the final assessment;

b. The relief sought and the basis for the relief;

c. A copy of the original notice of civil violation and proposed civil penalty assessment;

d. A copy of any objection and supporting documentation filed under 43 CFR 49.515(a) & (b);

e. A copy of the final assessment of civil penalty; and

f. A certificate of service acknowledging service of the request for hearing with the accompanying documentation on the Office of the Solicitor.

Proposed Revisions

With this submission, we propose to revise the following currently approved information collections:

(1) DI Form 9002, “Paleontology Permit Application” (43 CFR 49.115)—New fields proposed:

a. Provide State or administrative area (i.e., forest or NPS unit) where proposed work will occur. This will allow DOI offices to assign local contacts to assist applicants and to track work for administrative accountability.

b. Is the proposed work identified as hazardous? (Yes/No). For example, work in caves, with helicopters, or using high angle rigging or ropes. This will allow bureau offices to learn if an applicant's proposed work might be identified as hazardous to either the applicant or the public.

c. RAPTOR account creation. This field will provide electronic access to the BLM Recreation and Permit Tracking & Online Reporting (RAPTOR) system. The information will be collected during RAPTOR account creation and then used to autofill all forms. This additional burden hours expended while setting up a RAPTOR account will be offset by the autofill feature of the system. Applicants who are unable to use the RAPTOR system will continue to use the original DI 9002 format.

(2) DI Form 9004, “Paleontology Locality Record” (43 CFR 49.125(a)(1) & (6))—The original DI 9004 form will remain unchanged, but BLM proposes an additional format that allows permittees to report multiple localities in a single spreadsheet. Applicants requested the capability for a single spreadsheet upload which has proven to expedite data submission for permittees while also reducing administrative burden to the bureau.

(3) DI Form 9007, Repository Receipt (43 CFR 49.125(a)(10) & (11))—We are not proposing changes to the currently approved fields on the DI 9007; however, we plan to update the instructions to state that permittees may substitute this form with a copy of the approved repository's museum accession record. This record, provided by the repository, follows a museum best practice and industry standard and so may be submitted in place of DI 9007 in order to reduce duplication of effort.

Title of Collection: Application and Reports for Paleontological Permits, 43 CFR part 49.

OMB Control Number: 1093-0008.

Form Number: Forms DI-9002, DI-9003, DI-9004, DI-9005, DI-9006, and DI-9007.

Type of Review: Revision of a currently approved collection.

Respondents/Affected Public: Individuals; organizations; businesses (museums and universities); State, Tribal, or local governments that collect paleontological resources or disturb paleontological sites on DOI lands.

Total Estimated Number of Annual Respondents: 1,845.

Estimated Completion Time per Response: Varies from 1 to 10 hours.

Total Estimated Number of Annual Burden Hours: 5,060 hours.

Respondent's Obligation: Required to obtain or retain a benefit.

Frequency of Collection: On occasion.

Total Estimated Annual Nonhour Burden Cost: $288,876 (associated with curation agreements).

An agency may not conduct or sponsor, and a person is not required to respond to, a collection of information unless it displays a currently valid OMB control number.

The authority for this action is the Paperwork Reduction Act of 1995 (44 U.S.C. 3501 et seq.).

Jeffrey Parrillo,
Departmental Information Collection Clearance Officer.

[FR Doc. 2025-09444 Filed 5-23-25; 8:45 am]

BILLING CODE 4334-CC-P